POSTAL RATE COMMISSION

Sunshine Act Meetings

NAME OF AGENCY: Postal Rate Commission.

TIME AND DATE: Thursday, August 21, 2003 at 10:30 a.m.

PLACE: Commission conference room, 1333 H Street, NW., Suite 300, Washington, DC 20268-0001.

STATUS: Open.

MATTERS TO BE CONSIDERED: Further consideration of fiscal year 2004 budget.

FOR FURTHER INFORMATION CONTACT: Stephen L. Sharfman, General Counsel, at 202-789-6820.

Dated: August 19, 2003.
Garry J. Sikora,
Acting Secretary.

[FR Doc. 03-21544 Filed 8-19-03; 11:37 am]

BILLING CODE 7710-FW-M